DEPARTMENT OF TRANSPORTATION

National Highway Traffic Safety Administration

[Docket No. NHTSA-2013-0039; Notice 1]

General Motors, LLC, Receipt of Petition for Decision of Inconsequential Noncompliance

AGENCY: National Highway Traffic Safety Administration, DOT.

ACTION: Receipt of Petition.

SUMMARY: General Motors, LLC (GM) has determined that certain model year (MY) 2013 Chevrolet Equinox multipurpose passenger vehicles (MPVs) manufactured on January 24, 2013 do not fully comply with paragraph S6 of Federal Motor Vehicle Safety Standard (FMVSS) No. 205, Glazing Materials. GM has filed an appropriate report dated February 22, 2013, pursuant to 49 CFR Part 573, Defect and Noncompliance Responsibility and Reports.

DATES: December 2, 2013.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand delivery: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. GM's Petition: Pursuant to 49 U.S.C. 30118(d) and 30120(h) (see implementing rule at 49 CFR Part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 170 MY 2013 Chevrolet Equinox MPVs manufactured on January 24, 2013.

III. Noncompliance: GM explains that the noncompliance is that the vehicles are equipped with left-rear quarter windows that do not fully comply with the marking requirements specified in paragraph S6 of FMVSS No. 205.

GM further explained that the subject vehicles may be purchased with either solar glazing (having light transmittance greater than 70%) or privacy glazing (having light transmittance of approximately 22%) installed rearward of the driver. On the affected vehicles, the left-rear quarter window is privacy glazing; however it has markings appropriate for solar glazing. The correct privacy-glass markings and the markings on the affected quarter windows are as follows:

The specific noncompliance to FMVSS No. 205 on the subject quarter windows is the AS2 designation (instead of AS3) and the M504 model designation (instead of M513). The transmissibility value on the subject windows is also incorrect (70% instead of 22%); however, this information is not specified by FMVSS No. 205 and therefore is not a compliance issue.

IV. Rule Text: Paragraph S6 of FMVSS No. 205 specifically states:

S6. Certification and marking.

S6.1A prime glazing material manufacturer must certify, in accordance with 49 U.S.C. 30115, each piece of glazing material to which this standard applies that is designed—

(a) As a component of any specific motor vehicle or camper; or

(b) To be cut into components for use in motor vehicles or items of motor vehicle equipment.

S6.2A prime glazing manufacturer certifies its glazing by adding to the marks required by section 7 of ANSI/SAE Z26.1-1996, in letters and numerals of the same size, the symbol “DOT” and a manufacturer's code mark that NHTSA assigns to the manufacturer. NHTSA will assign a code mark to a manufacturer after the manufacturer submits a written request to the Office of Vehicle Safety Compliance, National Highway Traffic Safety Administration, 400 Seventh Street SW., Washington, DC 20590. The request must include the company name, address, and a statement from the manufacturer certifying its status as a prime glazing manufacturer as defined in S4.

S6.3A manufacturer or distributor who cuts a section of glazing material to which this standard applies, for use in a motor vehicle or camper, must—

(a) Mark that material in accordance with section 7 of ANSI/SAE Z26.1-1996; and

(b) Certify that its product complies with this standard in accordance with 49 U.S.C. 30115.

Summary of GM's Analyses: GM stated its belief that this noncompliance is inconsequential to motor vehicle safety for the following reasons:

1. The subject glazing meets all applicable performance requirements of FMVSS No. 205. There is no safety performance implication associated with this technical noncompliance.

2. In addition to meeting all of the component-level performance requirements of FMVSS No. 205, the subject glazing also fully meets the vehicle-level installation requirements specified by FMVSS No. 205. The subject tempered-glass glazing at 22% transmissibility is permitted in the left-rear quarter window location on the affected vehicles.

3. The actual transmissibility of the subject glazing (approximately 22%) is consistent with all other glazing rearward of the driver (i.e., the rear side windows, the back window, and the right-side rear quarter glazing) on the affected vehicles. Accordingly, there is no reason for the customer, state inspection authorities, service personnel, or anyone else to focus on or detect any distinction involving the subject left-side rear quarter window.

4. None of the subject population of glazing will be available as service parts. Therefore, if service replacement of the left-rear quarter window on an affected vehicle is required, the replacement part would be correct and properly labeled in accordance with all FMVSS No. 205 requirements.

5. Even in the extremely unlikely event that a glazing corresponding to the incorrect markings (i.e., solar glazing with 70% transmittance) was installed on an affected vehicle, this would also be fully compliant to all requirements of FMVSS No. 205, including the component-level, vehicle-level and marking requirements of the standard.

GM also stated its belief that NHTSA has previously granted inconsequential treatment for FMVSS No. 205 marking noncompliances.

GM has additionally informed NHTSA that it has corrected the noncompliance so that all future production vehicles will comply with FMVSS No. 205.

In summation, GM believes that the described noncompliance of its vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 170 vehicles that GM no longer controlled at the time it determined that the noncompliance existed. However, any decision on this petition does not relieve vehicle distributors and dealers of the prohibitions on the sale, offer for sale, or introduction for delivery or introduction into interstate commerce of the noncompliant vehicles under their control after GM notified them that the subject noncompliance existed.

Authority: (49 U.S.C. 30118, 30120: delegations of authority at 49 CFR 1.95 and 501.8)

Issued on: October 29, 2013.
Claude H. Harris,
Director, Office of Vehicle Safety Compliance.

[FR Doc. 2013-26096 Filed 10-31-13; 8:45 am]

BILLING CODE 4910-59-P